DEPARTMENT OF ENERGY

Federal Energy Regulatory Commission

[Project No. 14851-001]

White Pine Waterpower, LLC; Notice of Intent To File License Application, Filing of Pre-Application Document, and Approving Use of The Traditional Licensing Process

a. Type of Filing: Notice of Intent to File License Application and Request to Use the Traditional Licensing Process.

b. Project No.: 14851-001.

c. Date Filed: May 15, 2020.

d. Submitted By: White Pine Waterpower, LLC.

e. Name of Project: White Pine Pumped Storage Project.

f. Location: About 8 miles northeast of the city of Ely, in White Pine County, Nevada. The project would occupy approximately 916.33 acres of Bureau of Land Management land.

g. Filed Pursuant to: 18 CFR 5.3 of the Commission's regulations.

h. Applicant Contact: Matthew Shapiro, Chief Executive Officer, White Pine Waterpower, LLC, c/o rPlus Energies, 800 W. Main St., Ste. 1220, Boise, ID 83702; (208) 246-9925; mshapiro@gridflexenergy.com.

i. FERC Contact: Shannon Boyle at (202) 502-8417 or shannon.boyle@ferc.gov.

j. White Pine Waterpower, LLC (White Pine) filed its request to use the Traditional Licensing Process on May 15, 2020. White Pine provided public notice of its request on May 15, 2020. In a letter dated July 13, 2020, the Director of the Division of Hydropower Licensing approved White Pine's request to use the Traditional Licensing Process.

k. With this notice, we are designating White Pine Waterpower, LLC as the Commission's non-federal representative for carrying out informal consultation, pursuant to section 7 of the Endangered Species Act, and section 106 of the National Historic Preservation Act.

l. White Pine filed a Pre-Application Document (PAD; including a proposed process plan and schedule) with the Commission, pursuant to 18 CFR 5.6 of the Commission's regulations.

m. A copy of the PAD may be viewed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERCONlineSupport@ferc.gov, (866) 208-3676 (toll free), or (202) 502-8659 (TTY).

n. The applicant states its unequivocal intent to submit an application for an original license for Project No. 14851-001.

o. Register online at https://ferconline.ferc.gov/eSubscription.aspx to be notified via email of new filing and issuances related to this or other pending projects. For assistance, contact FERC Online Support.

Dated: July 13, 2020.
Kimberly D. Bose,
Secretary.

[FR Doc. 2020-15576 Filed 7-17-20; 8:45 am]

BILLING CODE 6717-01-P